DEPARTMENT OF THE TREASURY

Submission for OMB Review; Comment Request

July 28, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 6, 2000 to be assured of consideration.

Financial Management Service (FMS)

OMB Number: 1510-0069.

Form Number: None.

Type of Review: Extension.

Title: Administrative Offset, Collection of Past-Due Child Support Final Rule.

Description: The Debt Collection Improvement Act of 1996 authorizes the collection of past-due child support by offset of non-tax Federal payments. Executive Order 13019 of September 28, 1996 requires Treasury to promptly develop and implement procedures necessary to implement this authority.

Respondents: State, Local or Tribal Government.

Estimated Number of Respondents: 54.

Estimated Burden Hours Per Respondent: 103 hours.

Frequency of Response: On occasion.

Estimated Total Reporting Burden: 5,562 hours.

Clearance Officer: Juanita Holder, Financial Management Service, 3700 East West Highway, Room 144, PGP II, Hyattsville, MD 20782.

OMB Reviewer: Alexander T. Hunt, (202) 395-7860, Office of Management and Budget, Room 10202, New Executive Office Building, Washington, DC 20503.

Lois K. Holland,
Departmental Reports Management Officer.

[FR Doc. 00-19877 Filed 8-4-00; 8:45 am]

BILLING CODE 4810-35-P